DEPARTMENT OF THE INTERIOR

Bureau of Ocean Energy Management, Regulation and Enforcement

[Docket No. MMS-2010-OMM-0029]

BOEMRE Information Collection Activity: 1010-0183, Information Requirements for Exploration Plans, Development and Production Plans, and Development Operations Coordination Documents on the OCS NTL, Extension of a Collection; Comment Request

AGENCY: Bureau of Ocean Energy Management, Regulation, and Enforcement (BOEMRE), Interior.

ACTION: Notice of an extension of an information collection (1010-0183).

SUMMARY: To comply with the Paperwork Reduction Act of 1995 (PRA), BOEMRE is inviting comments on a collection of information that we will submit to the Office of Management and Budget (OMB) for review and approval. The information collection request (ICR) concerns the paperwork requirements in a Notice to Lessees and Operators (NTL) for the regulations under 30 CFR 250, subpart B, “Plans and Information.” The collection was originally approved by OMB under an emergency request. This request extends the collection for 3 years.

DATES: Submit written comments by November 8, 2010.

FOR FURTHER INFORMATION CONTACT: Cheryl Blundon, Regulations and Standards Branch at (703) 787-1607. You may also contact Cheryl Blundon to obtain a copy, at no cost, of the regulation and NTL that requires the subject collection of information.

ADDRESSES: You may submit comments by either of the following methods listed below.

• Electronically: go to http://www.regulations.gov. In the entry titled “Enter Keyword or ID,” enter docket ID MMS-2010-OMM-0029 then click search. Follow the instructions to submit public comments and view supporting and related materials available for this collection. The BOEMRE will post all comments.

• E-mail: cheryl.blundon@mms.gov. Mail or hand-carry comments to the Department of the Interior; Bureau of Ocean Energy Management, Regulation, and Enforcement; Attention: Cheryl Blundon; 381 Elden Street, MS-4024; Herndon, Virginia 20170-4817. Please reference ICR 1010-0183 in your comment and include your name and return address.

SUPPLEMENTARY INFORMATION: Title: Information Requirements for Exploration Plans, Development and Production Plans, and Development Operations Coordination Documents on the OCS NTL.

OMB Control Number: 1010-0183.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; preserve and maintain free enterprise competition; and ensure that the extent of oil and natural gas resources of the OCS is assessed at the earliest practicable time. Section 43 U.S.C. 1332(6) states that “operations in the outer Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

To carry out these responsibilities, the Bureau of Ocean Energy Management, Regulation, and Enforcement (BOEM) (formerly the Minerals Management Service) issues regulations to ensure that operations in the OCS will meet statutory requirements; provide for safety and protect the environment; and result in diligent exploration, development, and production of OCS leases. In addition, we also issue Notices to Lessees and Operators (NTLs) that provide clarification, explanation, and interpretation of our regulations. These NTLs are also used to convey purely informational material and to cover situations that might not be adequately addressed in our regulations. The latter is the case for the information collection required in the subject NTL. Because of the unusual nature of this information collection, issuing an NTL would be the appropriate means to collect the information at the time of the event.

The subject of this information collection request (ICR) is an NTL based on the recommendations in the May 27, 2010, Report from the Secretary of the Interior to the President of the United States, Increased Safety Measures for Energy Development on the Outer Continental Shelf (Report). The BOEMRE issued this NTL for operators to comply with the requirements and recommendations of the report as a result of the Deepwater Horizon oil spill in the Gulf of Mexico. The primary information collection for this regulation is 30 CFR 250, Subpart B approved under the Office of Management and Budget (OMB) Control Number 1010-0151. However, in connection with this subpart, BOEMRE thinks that the burden hour requirements in the NTL are in addition to the currently approved paperwork burden under those requirements. We are renewing the collection for 3 years because information needs to be collected for a longer period than allowed by the emergency OMB request. Due to the duration of the spill, companies have diligently been working to stop and/or contain the flow of oil into the Gulf of Mexico and not all facilities are back to normal operations.

As stated in the NTL, on April 20, 2010, an event of national significance that included the deaths of 11 people continues to harm the marine ecosystem, wildlife, and property along the Gulf Coast. Although the causes are still under investigation, these events highlight the importance of ensuring safe operations on the Outer Continental Shelf (OCS). The BOEMRE will use this information, as well as other information and analyses, to comprehensively assess what changes may be needed to BOEMRE program-wide requirements and to review the data submitted to analyze future activities under Exploration Plans (EPs), Development and Production Plans (DPPs), and Development Operations Coordination Documents (DOCDs).

They will be proposing rulemaking that will increase the burden hours and require more specific information that lessees need to submit about their plans (Exploration Plans, Development and Production Plans, and Development Operations Coordination Documents) due to such a catastrophic event. This increase in burden hours, once approved, will allow BOEMRE to react to disasters more quickly and provide the public with needed information about the offshore energy infrastructure.

We will protect information from respondents considered proprietary under the Freedom of Information Act (5 U.S.C. 552) and its implementing regulations (43 CFR part 2), 30 CFR 250.197, Data and information to be made available to the public or for limited inspection, and 30 CFR 252, OCS Oil and Gas Information Program. No items of a sensitive nature are collected. Responses are mandatory.

Frequency: On occasion.

Description of Respondents: Potential respondents comprise Federal oil, gas, or sulphur lessees and/or operators.

Estimated Reporting and Recordkeeping Hour Burden: The currently approved annual reporting burden for this collection is 7,755 hours. There are approximately 517 responses from the lessees and operators that will need to submit revised/updated Exploration Plans, Development and Production Plans, and Development Operations Coordination Documents. In calculating the burdens, we assumed that respondents perform certain requirements in the normal course of their activities. We consider these to be usual and customary and took that into account in estimating the burden.

Estimated Reporting and Recordkeeping Non-Hour Cost Burden: We have identified no non-hour paperwork cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: August 30, 2010.
Doug Slitor,
Acting Chief, Office of Offshore Regulatory Programs.

[FR Doc. 2010-22212 Filed 9-3-10; 8:45 am]

BILLING CODE 4310-MR-P